DEPARTMENT OF HEALTH AND HUMAN SERVICES

National Institutes of Health

National Institute of Dental & Craniofacial Research; Notice of Meeting

Pursuant to section 10(d) of the Federal Advisory Committee Act, as amended (5 U.S.C. Appendix 2), notice is hereby given of a meeting of the Board of Scientific Counselors, National Institute of Dental and Craniofacial Research.

The meeting will be open to the public as indicated below, with attendance limited to space available. Individuals who plan to attend and need special assistance, such as sign language interpretation or other reasonable accommodations, should notify the Contact Person listed below in advance of the meeting. The meeting will be closed to the public as indicated below in accordance with the provisions set forth in section 552b(c)(6), Title 5 U.S.C., as amended for the review, discussion, and evaluation of individual intramural programs and projects conducted by the National Institute of Dental & Craniofacial Research, including consideration of personnel qualifications and performance, and the competence of individual investigators, the disclosure of which would constitute a clearly unwarranted invasion of personal privacy.

Name of Committee: Board of Scientific Counselors, National Institute of Dental and Craniofacial Research, Review of Pain and Neurosensory Mechanisms Branch.

Date: May 30-31, 2002.

Open: May 30, 2002, 8:30 a.m. to 12:15 p.m.

Agenda: Branch Presentations by Principal Investigators.

Place: Bethesda Marriott, 5151 Pooks Hill Road, Bethesda, MD 20892.

Closed: May 30, 2002, 12:30 p.m. to 5:00 p.m.

Agenda: To review and evaluate—executive session.

Place: Bethesda Marriott, 5151 Pooks Hill Road, Bethesda, MD 20892.

Open: May 31, 2002, 9 a.m. to 10 a.m.

Agenda: Laboratory Walk Through.

Place: Bethesda Marriott, 5151 Pooks Hill Road, Bethesda, MD 20892.

Closed: May 31, 2002, 10 a.m. to 1 p.m.

Agenda: To review and evaluate/Interview-Lab Personnel and Lab Chief.

Place: Bethesda Marriott, 5151 Pooks Hill Road, Bethesda, MD 20892.

Contact Person: J. Ricardo Martinez, MD, MPH; Assoc. Director for Program Development, Office of the Director, National Institute of Dental & Craniofacial Research, 31 Center Drive, Bldg. 31, Rm. 5B55, Bethesda, MD 20892.

This notice is being published less than 15 days prior to the meeting due to the urgent need to meet timing limitations imposed by the intramural research review cycle.

Information is also available on the Institute's/Center's home page: www.nidcr.nih.gov/discover/bscmtgs.htm, where an agenda and any additional information for the meeting will be posted when available.

(Catalogue of Federal Domestic Assistance Program Nos. 93.121, Oral Diseases and Disorders Research, National Institutes of Health, HHS)

Dated: May 15, 2002.
LaVerne Y. Stringfield,
Director, Office of Federal Advisory Committee Policy.

[FR Doc. 02-12759 Filed 5-21-02; 8:45 am]

BILLING CODE 4140-01-M